DEPARTMENT OF JUSTICE

Membership of the Senior Executive Service and Senior Level Standing Performance Review Boards

AGENCY: Department of Justice.

ACTION: Notice of Department of Justice's standing members of the Senior Executive Service and Senior Level Performance Review Boards.

Pursuant to the requirements of 5 U.S.C. 4314(c)(4), the Department of Justice announces the membership of its 2019 Senior Executive Service (SES) and Senior Level (SL) Standing Performance Review Boards (PRBs). The purpose of a PRB is to provide fair and impartial review of SES/SL performance appraisals, executive development plans, and award recommendations/pay adjustments.

The PRBs will make recommendations regarding the final performance ratings to be assigned, SES/SL awards and/or pay adjustments to be awarded.

FOR FURTHER INFORMATION CONTACT: Mary A. Lamary, Director, Human Resources, Justice Management Division, Department of Justice, Washington, DC 20530; (202) 514-4350.

Lee J. Lofthus,
Assistant Attorney General for Administration.

2019 Federal Register
Name | Position title
Office of the Attorney General—OAG
HAMILTON, GENE | COUNSELOR TO THE ATTORNEY GENERAL.
RABBITT, BRIAN | CHIEF OF STAFF AND ADVISOR OF WHITE COLLAR CRIMES/FINANCIAL MATTERS.
TUCKER, RACHEL | COUNSELOR TO THE ATTORNEY GENERAL.
SHEA, TIMOTHY | COUNSELOR TO THE ATTORNEY GENERAL.
BISSEX, RACHEL | GENERAL ATTORNEY (WHITE HOUSE LIAISON AND ADVISOR TO THE ATTORNEY GENERAL).
MORRISSEY, BRIAN | COUNSELOR TO THE ATTORNEY GENERAL.
LEVI, WILLIAM | COUNSELOR TO THE ATTORNEY GENERAL.
MORAN, JOHN | DEPUTY CHIEF OF STAFF AND COUNSELOR TO THE ATTORNEY GENERAL.
Office of the Deputy Attorney General—ODAG
O'CALLAGHAN, EDWARD | PRINCIPAL ASSOCIATE DEPUTY ATTORNEY GENERAL.
WEINSHEIMER, BRAD | ASSOCIATE DEPUTY ATTORNEY GENERAL.
GUAHAR, TASHINA | ASSOCIATE DEPUTY ATTORNEY GENERAL.
HUGHES, WILLIAM | ASSOCIATE DEPUTY ATTORNEY GENERAL.
HOVAKIMIAN, PATRICK | CHIEF OF STAFF/DIR CTOC/ADAG.
CONNOLLY, ROBERT | DIRECTOR, OFFICE OF SMALL AND DISADVANTAGED BUSINESS UTILIZATION.
GOLDSMITH, ANDREW | NATIONAL CRIMINAL DISCOVERY COORDINATOR.
MICHALIC, MARK | EMERGENCY PREPAREDNESS AND CRISIS RESPONSE COORDINATOR.
MASLING, MARK | CHIEF AND COUNSELOR, DEPUTY ATTORNEY GENERAL.
Office of the Associate Attorney General—OASG
MURRAY, CLAIRE | PRINCIPAL DEPUTY ASSOCIATE ATTORNEY GENERAL.
DAVIS, PATRICK | DEPUTY ASSOCIATE ATTORNEY GENERAL.
SHAH, PRERAK | DEPUTY ASSOCIATE ATTORNEY GENERAL.
COX, STEVE | DEPUTY ASSOCIATE ATTORNEY GENERAL.
PANDYA, BRIAN | DEPUTY ASSOCIATE ATTORNEY GENERAL.
BANDY-DICKEY, JENNIFER | DEPUTY ASSOCIATE ATTORNEY GENERAL.
Office of the Solicitor General—OSG
WALL, JEFFREY | PRINCIPAL DEPUTY SOLICITOR GENERAL.
KNEEDLER, EDWIN S | DEPUTY SOLICITOR GENERAL.
STEWART, MALCOLM L | DEPUTY SOLICITOR GENERAL.
Office of Privacy and Civil Liberties
WINN, PETER | DIRECTOR, OFFICE OF PRIVACY AND CIVIL LIBERTIES
Antitrust Division—ATR
NIGRO, BERNARD | PRINCIPAL DEPUTY ASSISTANT ATTORNEY GENERAL.
FREDERICKS, JAMES | CHIEF, WASHINGTON CRIMINAL II SECTION.
MURRAY, MICHAEL F | DEPUTY ASSISTANT ATTORNEY GENERAL.
ARMINGTON, ELIZABETH J | CHIEF, ECONOMIC REGULATORY SECTION.
BRINK, PATRICIA A | DIRECTOR OF CIVIL ENFORCEMENT.
CAIN, WALTER | EXECUTIVE OFFICER.
DRENNAN, RONALD | CHIEF, COMPETITION POLICY SECTION.
FAMILANT, NORMAN | CHIEF, ECONOMIC LITIGATION SECTION.
FOUNTAIN, DOROTHY | SENIOR COUNSEL AND DIRECTOR OF RISK MANAGEMENT.
GREER, TRACY | ATTORNEY ADVISOR.
CONRATH, CRAIG | DIRECTOR OF LITIGATION.
AUGUSTINE, RENE | SENIOR COUNSEL.
DANKS, RYAN | CHIEF, NATIONAL CRIMINAL ENFORCEMENT SECTION.
MUCCHETTI, PETER J | CHIEF, LITIGATION I SECTION.
PRICE JR., MARVIN N | DIRECTOR OF CRIMINAL ENFORCEMENT.
POWERS, RICHARD | DEPUTY ASSISTANT ATTORNEY GENERAL.
SCHEELE, SCOTT A | CHIEF, TELECOMMUNICATIONS AND MEDIA ENFORCEMENT SECTION.
O'NEILL, KATHLEEN S | SR DIR OF INVESTIGATION & LITIGATION.
HOAG, AARON | CHIEF, NETWORKS AND TECHNOLOGY ENFORCEMENT SECTION.
KENDLER, OWEN | CHIEF, LITIGATION III SECTION.
MARSHALL, LYNDA | CHIEF, FOREIGN COMMERCE SECTION.
Bureau of Alcohol, Tobacco, Firearms, and Explosives—ATF
LOMBARDO, REGINA | SUPERVISORY EXECUTIVE ASSISTANT TO THE DIRECTOR.
DURASTANTI, JOHN | DEPUTY ASSISTANT DIRECTOR, FIELD OPERATIONS (PROGRAMS).
LAUDER, GEORGE | DEPUTY ASSISTANT DIRECTOR, FIELD OPERATIONS—CENTRAL.
LEADINGHAM, MICKEY | DEPUTY ASSISTANT DIRECTOR, FIELD OPERIONS—EAST.
CHITTUM, THOMAS | DEPUTY ASSISTANT DIRECTOR, FIELD OPERATIONS—WEST.
SWEETOW, SCOTT | SPECIAL AGENT IN CHARGE (DEPUTY DIRECTOR, TEDAC).
RICHARDSON, MARVIN G | ASSISTANT DIRECTOR, ENFORCEMENT PROGRAM SERVICES.
CZARNOPYS, GREGORY P. | DEPUTY ASSISTANT DIRECTOR, FORENSIC SERVICES.
BEASLEY, ROGER | CHIEF INFORMATION OFFICER (CIO).
NUNEZ, CELINEZ | ASSISTANT DIRECTOR, OPRSO.
MCDERMOND, JAMES E | ASSISTANT DIRECTOR, OFFICE OF STRATEGIC INTELLIGENCE AND INFORMATION.
NICHOLS, DANA | DEPUTY ASSISTANT DIRECTOR, OFFICE OF STRATEGIC INTELLIGENCE & INFORMATION.
FRANDE, FRANCIS | DEPUTY ASSISTANT DIRECTOR, MANAGEMENT AND CHIEF FINANCIAL OFFICER.
GERIDO, STEVEN L | ASSISTANT DIRECTOR, HUMAN RESOURCES AND PROFESSIONAL DEVELOPMENT.
FORCELLI, PETER | DEPUTY ASSISTANT DIRECTOR, HRPD.
BOYKIN, LISA | DEPUTY ASSISTANT DIRECTOR, HUMAN RESOURCES AND PROFESSIONAL DEVELOPMENT (HUMAN RESOURCES).
GRAHAM, ANDREW R | DEPUTY ASSISTANT DIRECTOR, INDUSTRY OPERATIONS.
ROESSNER, JOEL | CHIEF COUNSEL.
EPSTEIN, ERIC | ATTORNEY ADVISOR.
MCDANIEL, MASON | SENIOR INFORMATION TECHNOLOGY SPECIALIST (CHIEF TECHNOLOGY OFFICER).
GILBERT, CURTIS | DEPUTY ASSISTANT DIRECTOR, ENFORCEMENT PROGRAM AND SERVICES.
VANDERPLOW, PAUL | SPECIAL AGENT IN CHARGE (SPECIAL OPERATIONS DIVISION).
BOARD JR., DANIEL | ASSISTANT DIRECTOR, OFFICE OF PUBLIC AND GOVERNMENTAL AFFAIRS.
BENNETT, MEGAN | DEPUTY ASSISTANT DIRECTOR, OFFICE OF PUBLIC AND GOVERNMENTAL AFFAIRS.
MCMULLAN, WILLIAM | ASSISTANT DIRECTOR (FIELD OPERATIONS).
GOLD, VICTORIA | DEPUTY ASSISTANT DIRECTOR (SCIENCE AND TECHNOLOGY).
UNDERWOOD, JOHN | SPECIAL AGENT IN CHARGE, NATIONAL CENTER FOR EXPLOSIVES TRAINING AND RESEARCH (NCETR).
PERALTA, ARTHUR | SPECIAL AGENT IN CHARGE, ATLANTA.
CEKADA, ROBERT | SPECIAL AGENT IN CHARGE, BALTIMORE.
BRADY, KELLY | SPECIAL AGENT IN CHARGE, BOSTON.
PALLOZZI, VINCENT | SPECIAL AGENT IN CHARGE, CHARLOTTE.
JONES, TIMOTHY | SPECIAL AGENT IN CHARGE, CHICAGO.
BOSHEK, JEFF | SPECIAL AGENT IN CHARGE, DALLAS.
DEIR, JAMES | SPECIAL AGENT IN CHARGE, DETROIT.
MILANOWSKI, FREDERICK | SPECIAL AGENT IN CHARGE, HOUSTON.
VIDOLI, MARINO | SPECIAL AGENT IN CHARGE, KANSAS CITY.
CANINO, CAROLOS | SPECIAL AGENT IN CHARGE, LOS ANGELES.
LOWREY, STUART | SPECIAL AGENT IN CHARGE, LOUISVILLE.
SHAPIRA, ARI | SPECIAL AGENT IN CHARGE, MIAMI.
WATSON, MARCUS | SPECIAL AGENT IN CHARGE, NASHVILLE.
THIELHORN, KURT | SPECIAL AGENT IN CHARGE, NEW ORLEANS.
DEVITO, JOHN | SPECIAL AGENT IN CHARGE, NEW YORK.
PATTERSON, CHARLIE | SPECIAL AGENT IN CHARGE, NEWARK.
ROBINSON, DONALD | SPECIAL AGENT IN CHARGE, PHILADELPHIA.
VILLEGAS, MONIQUE | SPECIAL AGENT IN CHARGE, PHOENIX.
ROUNDTREE, RAYFIELD | SPECIAL AGENT IN CHARGE, SAN FRANCISCO.
PLEASANTS, DAREK | SPECIAL AGENT IN CHARGE, SEATTLE.
HENDERSON, WILLIAM | SPECIAL AGENT IN CHARGE, ST PAUL.
MCCRARY, DARYL | SPECIAL AGENT IN CHARGE, TAMPA.
BENEDICT, ASHAN | SPECIAL AGENT IN CHARGE, WASHINGTON, DC.
Bureau of Prisons—BOP
SAWYER, KATHLEEN | DIRECTOR (CORRECTIONAL PROGRAM OFFICER).
KANE, THOMAS | DEPUTY DIRECTOR (CORRECTIONAL PROGRAM OFFICER).
GRIFFITH, L. CRISTINA | ASSISTANT DIRECTOR, HUMAN RESOURCES MANAGEMENT DIVISION.
YEICH, KENNETH | SENIOR DEPUTY ASSISTANT DIRECTOR, FEDERAL PRISON INDUSTRIES.
O'CONNOR, PATRICK | CHIEF EXECUTIVE OFFICER (SUPVY. INDL. SPECLST).
GROSS, BRADLEY T | ASSISTANT DIRECTOR, ADMINISTRATION DIVISION.
BURNS, LONERYL C | SENIOR DEPUTY ASSISTANT DIRECTOR, ADMINISTRATION DIVISION.
AYERS, NANCY | CHIEF, OFFICE OF PUBLIC AFFAIRS.
GARRETT, JUDITH | CORRECTIONAL PROGRAM OFFICER (SPECIAL ASSISTANT).
THOMPSON, SONYA | SENIOR DEPUTY ASSISTANT DIRECTOR, INFORMATION, POLICY/PUBLIC AFFAIRS DIVISION.
HYLE, KENNETH | ASSISTANT DIRECTOR, OFFICE OF GENERAL COUNSEL.
KENDALL, PAUL F | SENIOR COUNSEL, OFFICE OF GENERAL COUNSEL.
RODGERS, RONALD L | SENIOR COUNSEL, OFFICE OF GENERAL COUNSEL.
ENGLISH, NICOLE | ASSISTANT DIRECTOR (CORRECTIONAL PROGRAM OFFICER).
WILLS, JAMES C | SENIOR DEPUTY COUNSEL, OFFICE OF GENERAL COUNSEL.
BROWN JR., ROBERT M | SENIOR DEPUTY DIRECTOR, NATIONAL INSTITUTE OF CORRECTIONS.
SHINN, DAVID | ASSISTANT DIRECTOR (CORRECTIONAL PROGRAM OFFICER).
HURWITZ, HUGH J | ASSISTANT DIRECTOR, RE-ENTRY SERVICES DIVISION.
QUINTANA, FRANCISCO J | WARDEN, FMC, LEXINGTON, KY.
BARNHART, JONATHAN | WARDEN, FCI, MANCHESTER, KY.
KIZZIAH, GREGORY | WARDEN, USP, MCCREARY, KY.
RASKIN, MINA | SENIOR DEPUTY ASSISTANT DIRECTOR, PROGRAMS REVIEW DIVISION.
FINLEY, SCOTT | WARDEN, FCI, SCHUYLKILL, PA.
YOUNG, DAVID L. | WARDEN, FCI, BECKLEY, WV.
WERLICH, THOMAS | WARDEN, FCI, GREENVILLE, IL.
HUDSON JR., DONALD J | WARDEN, FCI, THOMSON, IL.
KRUEGER, JEFFREY | CORRECTIONAL PROGRAM OFFICER (REGIONAL DIRECTOR).
HUDSON JR., DONALD J | WARDEN, USP, LEAVENWORTH, KS.
KALLIS, STEVEN | WARDEN, FMC, ROCHESTER, MN.
ORMOND, JOHNATHAN | REGIONAL DIRECTOR, NORTHEAST REGION.
HARMON, DARRIN | REGIONAL DIRECTOR, MID-ATLANTIC REGION.
YOUNG, WILLIAM S | WARDEN, FCI, FAIRTON, NJ.
ORTIZ, DAVID | WARDEN, FCI, FORT DIX, NJ.
QUAY, HERMAN | WARDEN, MDC, BROOKLYN, NY.
EBBERT, DAVID W | WARDEN, USP, LEWISBURG, PA.
CHEATHAM, ROY | COMPLEX WARDEN (CORRECTNL. INST. ADMR), COLEMAN, FL.
BEASLEY, GENE | CORRECTIONAL PROGRAM OFFICER (REGIONAL DIRECTOR), WESTERN REGION.
FOX, JOHN B | WARDEN, FTC, OKLAHOMA CITY, OK.
UPTON, JODY R | WARDEN, FMC, CARSWELL, TX.
WILSON, ERIC D | WARDEN, FCI, FORT WORTH, TX.
WITHERS, SHANNON | WARDEN, FCI, MARIANNA, FL.
RAMIREZ, GIOVANNI | WARDEN, FDC, MIAMI, FL.
WOODS, WILLIAM L | WARDEN, USP, ATLANTA, GA.
EDGE, DEREK | WARDEN, FCI, JESUP, GA.
BRAGG, M. TRAVIS | WARDEN, FCI, BENNETTSVILLE, SC.
MOSLEY, BONITA S | CORRECTIONAL PROGRAM OFFICER.
ANTONELLI, BRYAN | WARDEN, FCI, WILLIAMSBURG, SC.
ADAN, ANGEL | WARDEN, MDC, GUAYNABO, PUERTO RICO.
LOTHROP, WILLIAMS | WARDEN, FCI, PHOENIX, AZ.
BALTAZAR JR., JUAN | CORRECTIONAL PROGRAM OFFICER (REGIONAL DIRECTOR).
CARVAJAL, MICHAEL D | CORRECTIONAL PROGRAM OFFICER (ASSISTANT DIRECTOR).
MILUSNIC, LOUIS | COMPLEX WARDEN, FCC, VICTORVILLE, CA.
CIOLLIE, ANDREW | WARDEN, USP, ATWATER, CA.
YOUNG, WILLIAM | WARDEN, FCI, MENDOTA, CA.
SALAZAR, JOSIAS | WARDEN, FCI, SHERIDAN, OR.
KELLER, JEFFREY A | CORRECTIONAL PROGRAM OFFICER.
KIERNAN, SHEILA F | CORRECTIONAL PROGRAM OFFICER (SR. DEP ASST DIR), HUMAN RESOURCE MGMT. DIV.
MATEVOUSIAN, ANDRE | CORRECTIONAL PROGRAM OFFICER (SR. DEP ASST DIR), CORRECTIONAL PROGRAMS DIV.
N DIAYE, LAMINE | CORRECTNL INST ADMR (WARDEN).
PAUL, CHARLES D | CORRECTNL INST ADMR (COMPLEX WARDEN).
SCARANTINO, THOMAS J | CORRECTNL INST ADMR (COMPLEX WARDEN).
TRUE, WILLIAM PAGE | CORRECTNL INST ADMR (COMPLEX WARDEN).
VON BLANCHENSEE, BARBARA | CORRECTNL INST ADMR (COMPLEX WARDEN).
Civil Division—CIV
DAVIS, ETHAN | PRINCIPAL DEPUTY ASSISTANT ATTORNEY GENERAL.
YAVELBERG, JAMIE ANN | DEPUTY BRANCH DIRECTOR (COMMERICIAL LITIGATION BRANCH).
MAO, ANDY | DEPUTY DIRECTOR, FRAUD SECTION.
FLENTJE, AUGUST | SPECIAL COUNSEL TO THE ASSISTANT ATTORNEY GENERAL.
LANGSAM, STEPANIE | DEPUTY SPECIAL MASTER (FUNDS ADMIN).
GRIFFITHS, JOHN R | BRANCH DIRECTOR, FEDERAL PROGRAMS.
COPPOLINO, ANTHONY J | DEPUTY BRANCH DIRECTOR.
DAVIDSON, JEANNE E | DIRECTOR, COMMERCIAL LITIGATION.
KIRSCHMAN JR., ROBERT E | DIRECTOR, COMMERCIAL LITIGATION BRANCH.
BENSON, BARRY F | DIRECTOR, AVIATION AND ADMIRALTY SECTION.
BHATTACHARYA, RUPA | DIRECTOR, TORTS BRANCH (CONSTITUTIONAL AND SPECIAL TORTS LITIGATION).
REEVES, CATHERINE | DEPUTY DIRECTOR, TORTS/CSTL—VACCINE.
GLYNN, JOHN PATRICK | DIRECTOR, TORTS BRANCH (ENVIRONMENTAL TORT LITIGATION SECTION).
EMERSON, CATHERINE V | EXECUTIVE OFFICER.
PEACHEY, WILLIAM C | DIRECTOR, OFFICE OF IMMIGRATION LITIGATION, DISTRICT COURT.
WARD, THOMAS | DEPUTY ASSISTANT ATTORNEY GENERAL (TORTS).
GRANSTON, MICHAEL D | DEPUTY ASSISTANT ATTORNEY GENERAL.
MANHARDT, KIRK | DEPUTY DIRECTOR, COMMERCIAL LITIGATION BRANCH.
DINTZER, KENNETH | DEPUTY DIRECTOR, NATIONAL COURTS.
MORELL, DAVID | DEPUTY ASSISTANT ATTORNEY GENERAL (CONSUMER PROTECTION).
HAUSKEN, GARY L | DIRECTOR, INTELLECTUAL PROPERTY.
BOLDEN, SCOTT | DEPUTY DIRECTOR, INTELLECTUAL PROPERTY.
GOLDBERG, RICHARD | SENIOR LEVEL TRIAL ATTORNEY, CONSUMER LITIGATION.
SHAPIRO, ELIZABETH J | DEPUTY BRANCH DIRECTOR.
HOCKEY, MARTIN | DEPUTY DIRECTOR, NATIONAL COURTS COMMERCIAL LITIGATION BRANCH.
FREEMAN, MARK | DIRECTOR, APPELLATE STAFF.
RAAB, MICHAEL | APPELLATE LITIGATION COUNSEL.
STERN, MARK B | APPELLATE LITIGATION COUNSEL.
TOUHEY, JR., JAMES G | DIRECTOR, TORTS BRANCH (FEDERAL TORT CLAIMS ACT LITIGATION).
EINERSON, ROGER | SENIOR LEVEL TRIAL ATTORNEY.
MOLINA, JR., ERNESTO | DEPUTY DIRECTOR, OFFICE OF IMMIGRATION LITIGATION, APPELLATE SECTION.
MOOPPAN, HASHIM M | DEPUTY ASSISTANT ATTORNEY GENERAL (APPELLATE).
MARTIN, DANA | DEPUTY DIRECTOR, APPELLATE BRANCH.
MCCONNELL, DAVID M | DIRECTOR, OFFICE OF IMMIGRATION LITIGATION, APPELLATE SECTION.
MCCONKEY, MILTON | DIRECTOR, BUDGET STAFF.
MCINTOSH, SCOTT R | APPELLATE COUNSEL, ADVANCED TECHNOLOGY.
BROWN, WALTER W | SENIOR LEVEL PATENT ATTORNEY.
CARNEY, CHRISTOPHER | SENIOR LEVEL TRIAL ATTORNEY.
O'MALLEY, BARBARA B | SPECIAL LITIGATION COUNSEL (AVIATION, SPACE AND ADMIRALITY).
RICKETTS, JENNIFER D | BRANCH DIRECTOR.
FURMAN, JILL | DEPUTY DIRECTOR, CONSUMER PROTECTION BRANCH.
HAAS, ALEXANDER | DIRECTOR, FEDERAL PROGRAMS.
KISOR, COLIN | SENIOR LEVEL TRIAL ATTORNEY (DEPUTY DIRECTOR).
FREEMAN, MARK | DIRECTOR, APPELLATE STAFF.
KEENER, DONALD | SENIOR LEVEL TRIAL ATTORNEY, APPELLATE.
D'ALESSIO, JR., C.S | DEPUTY DIRECTOR, CONSTITUTIONAL AND SPECIALIZED TORT LITIGATION.
QUINN, MICHAEL J | SENIOR LEVEL TRIAL ATTORNEY (CORP—FINANCIAL).
GILLIGAN, JAMES J | SPECIAL LITIGATION COUNSEL.
HARVEY, RUTH A | DIRECTOR, COMMERCIAL LITIGATION BRANCH, CORPORATE AND FINANCIAL LITIGATION.
LATOUR, MICHELLE | DEPUTY DIRECTOR, OFFICE OF IMMIGRATION LITIGATION, APPELLATE SECTION.
LIN, JEAN | SENIOR LEVEL TRIAL ATTORNEY, COMPLEX LITIGATION.
KANTER, ETHAN B | SENIOR LEVEL TRIAL ATTORNEY—NATIONAL SECURITY.
STEWART, SCOTT G | DEPUTY ASSISTANT ATTORNEY GENERAL.
Civil Rights Division—CRT
GORE, JOHN | PRINCIPAL DEPUTY ASSISTANT ATTORNEY GENERAL.
MOOSSY, ROBERT J | DEPUTY ASSISTANT ATTORNEY GENERAL.
FELTE JR. JAMES | CHIEF, CRIMINAL SECTION.
FITZGERALD, PAIGE | PRINCIPAL DEPUTY CHIEF, CRIMINAL SECTION.
SIMONS, SHAHEENA | CHIEF, EDUCATIONAL OPPORTUNITIES SECTION.
FRIEL, GREGORY | DEPUTY ASSISTANT ATTORNEY GENERAL (APPELLATE, HOUSING & CIVIL ENFORCEMENT).
HOWE, SUSAN E | EXECUTIVE OFFICER.
TOOMEY, KATHLEEN | DIRECTOR OF OPERATIONAL MANAGEMENT.
GINSBURG, JESSICA A | COUNSEL TO THE ASSISTANT ATTORNEY GENERAL.
KENNEBREW, DELORA | CHIEF, EMPLOYMENT LITIGATION SECTION.
MAJEED, SAMEENA S | CHIEF, HOUSING AND CIVIL ENFORCEMENT SECTION.
SEWARD, JON | PRINCIPAL DEPUTY CHIEF, HOUSING AND CIVIL ENFORCEMENT SECTION.
HERREN JR., THOMAS C | CHIEF, VOTING SECTION.
WERTZ, REBECCA | PRINCIPAL DEPUTY CHIEF, VOTING SECTION.
BOND, REBECCA B | CHIEF, DISABILITY RIGHTS SECTION.
EMBREY, DIANA | CHIEF, EMPLOYMENT COUNSEL.
FORAN, SHEILA | SPECIAL LEGAL COUNSEL, DISABILITY RIGHTS SECTION.
BLUMBERG, MARK | SPECIAL LEGAL COUNSEL.
RUISANCHEZ, ALBERTO | DEPUTY SPECIAL COUNSEL FOR IMMIGRATION-RELATED UNFAIR EMPLOYMENT PRACTICES, OFFICE OF THE SPECIAL COUNSEL.
PRESTON, JUDITH L | PRINCIPAL DEPUTY CHIEF, SPECIAL LITIGATION SECTION.
RAISH, ANNE | PRINCIPAL DEPUTY CHIEF, DISABILITY RIGHTS SECTION.
WOODARD, KAREN | PRINCIPAL DEPUTY CHIEF, EMPLOYMENT LITIGATION SECTION.
ROSENBAUM, STEVEN H | CHIEF, SPECIAL LITIGATION SECTION.
LIVINGSTON, DONALD | DEPUTY ASSISTANT ATTORNEY GENERAL (DISABILITY RIGHTS).
Criminal Division—CRM
SWARTZ, BRUCE CARLTON | DEPUTY ASSISTANT ATTORNEY GENERAL (INTERNATIONAL AFFAIRS).
AINSWORTH, PETER J | SENIOR COUNSEL, OFFICE OF OVERSEAS PROSECUTORIAL DEVELOPMENT ASSISTANCE AND TRAINING.
AMUNDSON, COREY | CHIEF, PUBLIC INTEGRITY SECTION.
CARROLL, OVIE | DIRECTOR OF THE CYBERCRIME LABORATORY.
RYBICKI, DAVID | DEPUTY ASSISTANT ATTORNEY GENERAL (HUMAN RIGHTS, ORGANIZED CRIME & GANG).
ALEXANDRE, CARL | COUNSELOR FOR TRANSNATIONAL ORGANIZED CRIME & INTL AFFAIRS.
ARY, VAUGHN | DIRECTOR, OFFICE OF INTERNATIONAL AFFAIRS.
HO-GONZALES, WILLIAM | DEPUTY DIRECTOR, OFFICE OF INTERNATIONAL AFFAIRS.
TOLEDO, RANDY | DEPUTY DIRECTOR, OFFICE OF INTERNATIONAL AFFAIRS.
CONNOR, DEBORAH L | CHIEF, MONEY LAUNDERING AND ASSET RECOVERY SECTION.
CARWILE, P | KEVIN SENIOR COUNSEL (MARITIME & COUNTERNARCOTICS).
DOWNING, RICHARD W | DEPUTY ASSISTANT ATTORNEY GENERAL.
EHRENSTAMM, FAYE | DIRECTOR, OFFICE OF OVERSEAS PROSECUTORIAL DEVELOPMET, ASSISTANCE/TRAINING.
GROCKI, STEVEN J | CHIEF, CHILD EXPLOITATION AND OBSCENITY SECTION.
HODGE, JENNIFER A.H | DIRECTOR, OFFICE OF ENFORCEMENT.
HULSER, RAYMOND N | SENIOR COUNSEL TO THE ASSISTANT ATTORNEY GENERAL.
JAFFE, DAVID | CHIEF, ORGANIZED CRIME AND GANG SECTION.
JONES, JOSEPH M | SENIOR COUNSEL FOR INTERNATIONAL DEVELOPMENT AND TRAINING.
KING, DAMON A | DEPUTY CHIEF, CHILD EXPLOITATION AND OBSCENITY SECTION.
LYNCH JR., JOHN T | CHIEF, COMPUTER CRIME, AND INTELLECTUAL PROPERTY SECTION.
MCHENRY, TERESA L | CHIEF, HUMAN RIGHTS AND SPECIAL PROSECUTIONS SECTION.
MELTON, TRACY | EXECUTIVE OFFICER.
RODRIGUEZ, MARY D | DEPUTY DIRECTOR, OFFICE OF INTERNATIONAL AFFAIRS.
ROSENBAUM, ELI M | DIRECTOR, HUMAN RIGHTS ENFORCEMENT STRATEGY AND POLICY.
STEMLER, PATTY MERKAMP | CHIEF, APPELLATE SECTION.
TIROL, ANNALOU | DEPUTY CHIEF, PUBLIC INTEGRITY SECTION.
WROBLEWSKI, JONATHAN J | DIRECTOR, OFFICE OF POLICY AND LEGISLATION.
NAZARRO, SAMUEL | SENIOR COUNSEL.
WYATT, ARTHUR G | CHIEF, NARCOTIC AND DANGEROUS DRUG SECTION.
WYDERKO, JOSEPH | DEPUTY CHIEF, APPELLATE SECTION.
CRONAN, JOHN | PRINCIPAL DEPUTY ASSISTANT ATTORNEY GENERAL/CHIEF OF STAFF.
MINER, MATTHEW | DEPUTY ASSISTANT ATTORNEY GENERAL (FRAUD AND APPELLATE).
STIGLITZ, MATTHEW | DEPUTY DIRECTOR, HUMAN RIGHTS ENFORCEMENT STRATEGY AND POLICY.
OHR, BRUCE | SENIOR COUNSEL FOR INTERNATIONAL AFFAIRS.
HARRIS, KENNETH | SENIOR JUSTICE COUNSEL.
BRYDEN, ROBERT J | DEPUTY DIRECTOR, OFFICE OF ENFORCEMENT OPERATIONS.
Environmental and Natural Resources Division—ENRD
BRIGHTBILL, JONATHAN | PRINCIPAL DEPUTY ASSISTANT ATTORNEY GENERAL.
WILLIAMS, JEAN E | DEPUTY ASSISTANT ATTORNEY GENERAL (ENVIRONENTAL CRIMES AND WILDLIFE AND MARINE RESOURCES SECTIONS).
GELBER, BRUCE S | DEPUTY ASSISTANT ATTORNEY GENERAL.
ALEXANDER, S. CRAIG | CHIEF, INDIAN RESOURCES SECTION.
BARSKY, SETH | CHIEF, WILDLIFE AND MARINE RESOURCES.
COLLIER, ANDREW | EXECUTIVE OFFICER.
DOUGLAS, NATHANIEL | DEPUTY SECTION CHIEF, ENVIRONMENTAL ENFORCEMENT SECTION.
FERGUSON, CYNTHIA | SENIOR LITIGATION COUNSEL.
GETTE, JAMES | PRINCIPAL DEPUTY CHIEF, NATURAL RESOURCES SECTION.
GOLDFRANK, ANDREW M | CHIEF, LAND ACQUISITION SECTION.
GRANT, ERIC | DEPUTY ASSISTANT ATTORNEY GENERAL.
GRISHAW, LETITIA J | CHIEF, ENVIRONMENTAL DEFENSE SECTION.
HARRIS, DEBORAH | CHIEF, ENVIRONMENTAL CRIMES SECTION.
HOANG, ANTHONY P | SENIOR LITIGATION COUNSEL, NATURAL RESOURCES.
KILBOURNE, JAMES C | CHIEF, APPELLATE SECTION.
MAHAN, ELLEN M | PRINCIPAL DEPUTY CHIEF, ENVIRONMENTAL ENFORCEMENT SECTION.
MARIANI, THOMAS | CHIEF, ENVIRONMENTAL ENFORCEMENT SECTION.
DWORKIN, KAREN | DEPUTY CHIEF, ENVIRONMENTAL ENFORCEMENT SECTION.
MERGEN, ANDREW | PRINCIPAL DEPUTY CHIEF, APPELLATE SECTION.
HEMINGER, JUSTIN | SENIOR LITIGATION COUNSEL FOR APPELLATE MATTERS, APPELLATE SECTION.
PASSARELLI, EDWARD | DEPUTY CHIEF, ENVIRONMENTAL ENFORCEMENT.
POUX, JOSEPH | DEPUTY CHIEF, ENVIRONMENTAL CRIMES SECTION.
RUSSELL, LISA L | CHIEF, NATURAL RESOURCES SECTION.
VANDKYE, LAWRENCE | DEPUTY ASSISTANT ATTORNEY GENERAL.
HIMMELCHOCH, SARAH | SENIOR LITIGATION COUNSEL.
SINGER, FRANK | SENIOR LITIGATION COUNSEL.
STEWART, HOWARD P | SENIOR LITIGATION COUNSEL.
TENENBAUM, ALAN S | NATIONAL BANKRUPTCY COORINDATOR AND SENIOR COUNSEL.
WARDZINSKI, KAREN M | CHIEF, LAW AND POLICY SECTION.
Executive Office for Immigration Review—EOIR
MCHENRY III, JAMES R | DIRECTOR.
REID, LAUREN | ASSISTANT DIRECTOR FOR POLICY.
SANTORO, CHRISTOPHER | DEPUTY CHIEF IMMIGRATION JUDGE.
WARD, LISA | ASSISTANT DIRECTOR FOR ADMINISTRATION.
SO, EDWARD | CHIEF INFORMATION OFFICER.
ADKINS-BLANCH, CHARLES K | VICE CHAIRMAN, BOARD OF IMMIGRATION APPEALS.
CLARK, MOLLY K | ATTORNEY EXAMINER.
COLE, PATRICIA A | ATTORNEY EXAMINER.
CREPPY, MICHAEL | ATTORNEY EXAMINER.
MANN, ANA | ATTORNEY EXAMINER.
GRANT, EDWARD R | ATTORNEY EXAMINER.
GREER, ANNE J | ATTORNEY EXAMINER.
GUENDELSBERGER, JOHN W | ATTORNEY EXAMINER.
KING, JEAN | GENERAL COUNSEL
LIEBOWITZ, ELLEN | ATTORNEY EXAMINER.
KELLY, EDWARD | ATTORNEY EXAMINER
MALPHRUS, GARRY D | ATTORNEY EXAMINER.
MULLANE, HUGH G | ATTORNEY EXAMINER.
O'CONNOR, BLAIR | ATTORNEY EXAMINER.
PAULEY, ROGER ANDREW | ATTORNEY EXAMINER.
STUTMAN, ROBIN M | CHIEF ADMINISTRATIVE HEARING OFFICER.
WENDTLAND, LINDA S | ATTORNEY EXAMINER.
KELLER, MARY BETH | CHIEF IMMIGRATION JUDGE.
Executive Office for Organized Crime Drug Enforcement Task Forces—OCDETF
COHEN, ADAM | DIRECTOR, OCDETF.
PADDEN, THOMAS W | DEPUTY DIRECTOR, OCDETF.
ROTHSTEIN, JULIUS | DIRECTOR, FUSION CENTER.
Executive Office for U.S. Attorneys—EOUSA
BELL, SUZANNE L | DEPUTY DIRECTOR (LEGAL ADVISOR).
PELLETIER, JONATHAN | CHIEF FINANCIAL OFFICER.
FLESHMAN, JAMES MARK | CHIEF INFORMATION OFFICER.
FLINN, SHAWN | CHIEF HUMAN RESOURCES OFFICER.
MACKLIN, JAMES | GENERAL COUNSEL.
SMITH, DAVID L | ATTORNEY ADVISOR (COUNSEL FOR LEGAL INITIATIVES).
WONG, NORMAN Y | DEPUTY DIRECTOR AND COUNSEL TO THE DIRECTOR.
RENO, TAMARA | COUNSEL, LEGAL PROGRAMS AND POLICY.
YANCEY, MARK | ASSOCIATE DIRECTOR, OFFICE OF LEGAL EDUCATION.
Executive Office for U.S. Trustees—EOUST
WHITE III, CLIFFORD J | DIRECTOR.
ELLIOTT, RAMONA D | DEPUTY DIRECTOR, GENERAL COUNSEL.
HENSELY, HENREY | DEPUTY DIRECTOR MANAGEMENT.
Justice Management Division—JMD
LOFTHUS, LEE J | ASSISTANT ATTORNEY GENERAL FOR ADMINISTRATION.
ALLEN, MICHAEL H | DEPUTY ASSISTANT ATTORNEY GENERAL FOR POLICY, MANAGEMENT AND PLANNING.
LAURIA JOLENE A | DEPUTY ASSISTANT ATTORNEY GENERAL/CONTROLLER.
KLIMAVICZ, JOSEPH | DEPUTY ASSISTANT ATTORNEY GENERAL FOR INFORMATION TECHNOLOGY MANAGEMENT AND CHIEF INFORMATION OFFICER.
WILKINSON, ROBERT M | DEPUTY ASSISTANT ATTORNEY GENERAL FOR HUMAN RESOURCES AND ADMINISTRATION.
LAMARY, MARY | DIRECTOR, HUMAN RESOURCES.
GARY, ARTHUR | GENERAL COUNSEL.
SHAW, CYNTHIA | DIRECTOR, DEPARTMENTAL ETHICS OFFICE.
ALVAREZ, CHRISTOPHER C | DIRECTOR, FINANCE STAFF.
DUNLAP, JAMES L | DIRECTOR, SECURITY AND EMERGENCY PLANNING STAFF.
SNELL, ROBERT | DIRECTOR, FACILITIES AND ADMINISTRATIVE SERVICES STAFF.
FELDT, DENNIS G | DIRECTOR, LIBRARY STAFF.
NACCARATO, TOM | DIRECTOR, PROCUREMENT SERVICES STAFF.
DAUPHIN, DENNIS E | DIRECTOR, DEBT COLLECTION MANAGEMENT STAFF.
PULLEN, JEFFREY | SENIOR ADVISOR FOR FINANCIAL MANAGEMENT INFORMATION TECHNOLOGY.
FUNSTON, ROBIN S | DIRECTOR, STRATEGIC PLANNING AND PERFORMANCE.
ATTUCKS, MARK | DEPUTY DIRECTOR, BUDGET STAFF, OPERATIONS AND FUNDS CONTROL.
KLEPPINGER, ERIC D | DEPUTY DIRECTOR, BUDGET STAFF, PROGRAMS AND PERFORMANCE.
ROGERS, MELINDA | DEPUTY CHIEF INFORMATION OFFICER.
BEWTRA, ANEET K | CHIEF TECHNOLOGY OFFICER.
TOSCANO JR., RICHARD A | DIRECTOR, EQUAL EMPLOYMENT OPPORTUNITY STAFF.
COOK, TERENCE L | SENIOR ADVISOR.
ROPER, MATTHEW | DEPUTY DIRECTOR (AUDITING), FINANCE STAFF.
CONNELLY, ROBERT L | DIRECTOR, OSDBU.
SMITH, RICHARD | CONSOLIDATED DEBT COLLECTION SYSTEM.
MITCHELL, KRYSTLE | CHIEF LEARNING OFFICER.
WASHINGTON JR., RUSSELL | SR. LAW ENFORCEMENT ADVISOR TO THE CIO.
WARD, NICKOLOUS | DIRECTOR, CYBERSECURITY SERVICES STAFF/CISO.
SMITH, LINDA | DIRECTOR, BUDGET STAFF.
MCKEOWN, DAVID | DIRECTOR, SERVICE DELIVERY STAFF.
SJOBERG-RADWAY, CYNTHIA | DIRCTOR, POLICY AND PLANNING STAFF (OCIO).
National Security Division—NSD
BURNS, DAVID | PRINCIPAL DEPUTY ASSISTANT ATTORNEY GENERAL.
HICKEY, ADAM | DEPUTY ASSISTANT ATTORNEY GENERAL.
ANDREWS, KELLI | CHIEF OF STAFF AND COUNSELOR.
WIEGMANN, JOHN B | DEPUTY ASSISTANT ATTORNEY GENERAL, OFFICE OF LAW AND POLICY.
TOSCAS, GEORGE Z | DEPUTY ASSISTANT ATTORNEY GENERAL, COUNTERESPIONAGE-COUNTERTERRORISM.
RAMELLA SMITH, JENNIFER | CHIEF, COUNTERTERRORISM SECTION.
JAYARAM, SANCHITHA | CHIEF, FOREIGN INVESTMENT REVIEW STAFF.
DUNNE, STEVEN M | CHIEF, APPELLATE UNIT.
RALEY, MAUREEN | SENIOR ADVISOR, TECHNOLOGY AND INVESTMENT RISK.
KEEGAN, MICHAEL | CHIEF, COUNTERTERRORISM SECTION.
BRATT, JAY | CHIEF, COUNTERINTELLIGENCE, EXPORT CONTROL AND ECONOMIC ESPIONAGE.
KENNEDY, J. LIONEL | SPECIAL COUNSEL FOR NATIONAL SECURITY.
O'CONNOR, KEVIN | CHIEF, OVERSIGHT SECTION.
SANZ-REXACH, GABRIEL | CHIEF, OPERATIONS SECTION
HARDEE, CHRISTOPHER | CHIEF, POLICY-OFFICE OF LAW AND POLICY.
PALMER, DAVID | SENIOR COUNSELOR TO THE ASSISTANT ATTORNEY GENERAL.
Office of Community Oriented Policing Services—COPS
KEITH, PHILLIP | DIRECTOR.
BROWN-CUTLAR, SHANETTA | SENIOR COUNSEL TO THE DIRECTOR.
Office of Justice Programs—OJP
SULLIVAN, KATHARINE | PRINCIPAL DEPUTY ASSISTANT ATTORNEY GENERAL.
HENNEBERG, MAUREEN A | DEPUTY ASSISTANT ATTORNEY GENERAL, OPERATIONS MANAGEMENT.
COSTIGAN, MICHAEL | CHIEF OF STAFF.
GARRY, EILEEN M | DIRECTOR FOR SPECIAL PROJECTS.
TRAUTMAN, TRACEY | DEPUTY DIRECTOR FOR PROGRAMS, BUREAU OF JUSTICE ASSISTANCE.
SPIVAK, HOWARD | PRINCIPAL DEPUTY DIRECTOR, NATIONAL INSTITUTE OF JUSTICE.
MARTIN, RALPH | DIRECTOR, OFFICE OF AUDIT, ASSESSMENT, AND MANAGEMENT.
MERKLE, PHILIP | DIRECTOR, OFFICE OF ADMINISTRATION.
MADAN, RAFAEL A | GENERAL COUNSEL.
MAHONEY, KRISTEN | DEPUTY DIRECTOR FOR POLICY.
MCGRATH, BRIAN | CHIEF INFORMATION OFFICER.
BENDA, BONNIE LEIGH | CHIEF FINANCIAL OFFICER.
DUMMERUTH, MATTHEW | SENIOR COUNSELOR.
BARNETT, GARY | SENIOR COUNSELOR.
TOESING, BRADY | SENIOR COUNSELOR.
BECK, ALLEN J | SENIOR STATISTICIAN.
DARDEN, SILAS | DIRECTOR, OFFICE OF COMMUNICATIONS.
JONES, CHYRL | DEPUTY ADMINISTRATOR.
Office of Legal Counsel—OLC
GANNON, CURTIS | PRINCIPAL DEPUTY ASSISTANT ATTORNEY GENERAL OF LEGAL COUNSEL.
KOFFSKY, DANIEL L | DEPUTY ASSISTANT ATTORNEY GENERAL.
WHITAKER, HENRY | DEPUTY ASSISTANT ATTORNEY GENERAL.
HARDY, LIAM | DEPUTY ASSISTANT ATTORNEY GENERAL.
MASCOTT, JENNIFER | DEPUTY ASSISTANT ATTORNEY GENERAL.
COLBORN, PAUL P | SPECIAL COUNSEL.
HART, ROSEMARY A | SPECIAL COUNSEL.
SINGDAHLSEN, JEFFREY P | SENIOR COUNSEL.
Office of Legal Policy—OLP
JONES, KEVIN ROBERT | DEPUTY ASSISTANT ATTORNEY GENERAL.
THIEMANN, ROBYN L | DEPUTY ASSISTANT ATTORNEY GENERAL.
DHILLON, UTTAM A | SENIOR COUNSELOR.
KARP, DAVID J | SENIOR COUNSEL.
CRYTZER, KATIE | SENIOR COUNSEL.
CHAMPOUX, MARK | PRINCIPAL DEPUTY ASSISTANT ATTORNEY GENERAL.
Office of Legislative Affairs—OLA
HANKEY, MARY BLANCHE | CHIEF OF STAFF AND COUNSELOR.
NOLAN, CHERI | SENIOR ADVISOR FOR LAW ENFORCEMENT RELATIONS.
ESCALONA, PRIM | PRINCIPAL DEPUTY ASSISTANT ATTORNEY GENERAL.
LASSETER, DAVID | DEPUTY ASSISTANT ATTORNEY GENERAL.
Office of Professional Responsibility—OPR
ASHTON, ROBIN | SENIOR COUNSELOR.
RAGSDALE, JEFFREY | DEPUTY COUNSEL ON PROFESSIONAL RESPONSIBILITY.
BIRNEY, WILLIAM | SENIOR ASSOCIATE COUNSEL.
MCCARTY, MARGARET | SENIOR ASSOCIATE COUNSEL.
Office of Public Affairs—PAO
KUPEC, KERRI | DIRECTOR.
LLOYD, MATTHEW | PRINCIPAL DEPUTY DIRECTOR.
Office of Tribal Justice—OTJ
TOULOU, TRACY S | DIRECTOR, OFFICE OF TRIBAL JUSTICE.
Office on Violence Against Women (OVW)
ROGERS, LAURA | PRINCIPAL DEPUTY DIRECTOR.
Professional Responsibility Advisory Office—PRAO
LUDWIG, STACY | DIRECTOR.
Tax Division—TAX
HUBBERT, DAVID A | DEPUTY ASSISTANT ATTORNEY GENERAL.
WU, JOSHUA | DEPUTY ASSISTANT ATTORNEY GENERAL.
BRUFFY, ROBERT | EXECUTIVE OFFICER.
BALLWEG, MITCHELL | COUNSELOR TO THE DEPUTY ASSISTANT ATTORNEY GENERAL FOR STRATEGIC TAX ENFORCEMENT.
WSZALEK, LARRY | CHIEF, CRIMINAL ENFORCEMENT SECTION, WESTERN REGION.
DALY, MARK | SENIOR LEVEL TRIAL ATTORNEY.
DAVIS, NANETTE | SENIOR LEVEL TRIAL ATTORNEY.
DONOHUE, DENNIS M | SENIOR LITIGATION COUNSEL.
PINCUS, DAVID | CHIEF, COURT OF FEDERAL CLAIMS SECTION.
GOLDBERG, STUART | SENIOR COUNSELOR TO THE ASSISTANT ATTORNEY GENERAL.
HAGLEY, JUDITH | SENIOR LEVEL TRIAL ATTORNEY.
IHLO, JENNIFER | SENIOR LEVEL TRIAL ATTORNEY.
CLARKE, RUSSELL SCOTT | CHIEF, CIVIL TRIAL SECTION, CENTRAL REGION.
JOHNSON, CORY | SENIOR LEVEL TRIAL ATTORNEY.
FRATTARELLI, ANGELO | CHIEF, CIVIL TRIAL SECTION, SOUTHERN REGION.
LARSON, KARI | SENIOR LEVEL TRIAL ATTORNEY.
LINDQUIST III, JOHN A | SENIOR LEVEL TRIAL ATTORNEY.
KATINSKY, DAVID | CHIEF, CIVIL TRIAL SECTION, NORHTERN REGION.
MELAND, DEBORAH | CHIEF, CIVIL TRIAL SECTION EASTERN REGION.
FRATTARELLI, ANGELO | CHIEF, CIVIL TRIAL SECTION, SOUTHERN REGION.
REID, ANN C. | CHIEF, OFFICE OF REVIEW.
PAGUNI, ROSEMARY E | CHIEF, CRIMINAL ENFORCEMENT SECTION, NORTHERN REGION.
ROTHENBERG, GILBERT S | CHIEF, APPELLATE SECTION.
CLARK, THOMAS J | DEPUTY CHIEF, APPELLATE SECTION.
LYONS, ROBERT | CHIEF, CRIMINAL APPEALS AND TAX ENFORCEMENT POLICY SECTION.
SAWYER, THOMAS | SENIOR LEVEL TRIAL ATTORNEY.
SERGI, JOSEPH A | SENIOR LEVEL TRIAL ATTORNEY.
SHATZ, EILEEN M | SPECIAL LITIGATION COUNSEL.
SMITH, COREY J | SENIOR LEVEL TRIAL ATTORNEY.
STEHLIK, NOREENE C | SENIOR LEVEL TRIAL ATTORNEY.
SULLIVAN, JOHN | SENIOR LEVEL TRIAL ATTORNEY.
WEAVER, JAMES E | SENIOR LEVEL TRIAL ATTORNEY.
WARD, RICHARD | CHIEF, CIVIL TRIAL SECTION WESTERN REGION.
ZUCKERMAN, RICHARD | DEPUTY ASSISTANT ATTORNEY GENERAL.
GREAVES, TRAVIS | DEPUTY ASSISTANT ATTORNEY GENERAL.
U.S. Marshals Service—USMS
AUERBACH, GERALD | GENERAL COUNSEL.
CAMPBELL KREIGER, DIANNI | ASSISTANT DIRECTOR, HUMAN RESOURCES.
BROWN, SHANNON B | ASSISTANT DIRECTOR, JPATS.
MOHAN, KATHERINE T | ASSOCIATE DIRECTOR FOR ADMINISTRATION.
DRISCOLL, DERRICK | DEPUTY DIRECTOR.
MATHIAS, KARL | ASSISTANT DIRECTOR FOR INFORMATION TECHNOLOGY.
BOLEN, JOHN | ASSISTANT DIRECTOR, OFFICE OF INSPECTION.
VIRTUE, TIMOTHY | ASSISTANT DIRECTOR, ASSET FORFEITURE.
HACKMASTER, NELSON | ASSOCIATE DIRECTOR FOR OPERATIONS.
DICKINSON, LISA | ATTORNEY ADVISOR.
O'BRIEN-ROGAN, CAROLE | PROCUREMENT EXECUTIVE, FINANCIAL SERVICES.
O'BRIEN, HOLLEY | CHIEF, FINANCIAL OFFICER, FINANCIAL SERVICES.
O'HEARN, DONALD | ASSISTANT DIRECTOR FOR WITNESS SECURITY.
TYLER, JEFFREY | ASSISTANT DIRECTOR, INVESTIGATIVE OPERATIONS.
HICKMAN, KATE | ASSISTANT DIRECTOR, MANAGEMENT SUPPORT.
WHITE, DARRELL | ASSISTANT DIRECTOR, JUDICIAL SECURITY.
ROBINSON, ROBERTO | ASSISTANT DIRECTOR, TACTICAL OPERATIONS.
BRUNER, JARROD | SUPERVISORY IT PROGRAM MANAGER.
Community Relations Service—CRS
RATIFF, GERRI | DEPUTY DIRECTOR.
Rule of Law Office—ROL
MOTT, JOSEPH | JUSTICE ATTACHE, AFGHANISTAN.

[FR Doc. 2019-23381 Filed 10-24-19; 8:45 am]

BILLING CODE 4410-CH-P